DEPARTMENT OF COMMERCE

National Oceanic and Atmospheric Administration

RIN 0648-XJ88

Advisory Committee to the U.S. Section of the International Commission for the Conservation of Atlantic Tunas; Second Fall Meeting

AGENCY: National Marine Fisheries Service (NMFS), National Oceanic and Atmospheric Administration (NOAA), Commerce.

ACTION: Notice of public meeting.

SUMMARY: In preparation for the 2008 ICCAT meeting, the Advisory Committee to the U.S. Section of the International Commission for the Conservation of Atlantic Tunas (ICCAT) will convene its second and final fall meeting in October 2008.

DATES: The meeting will be held October 26-28, 2008. There will be an open session the afternoon of Sunday, October 26, 2008, from 2 p.m. to 6 p.m. The remainder of the meeting will be closed to the public. Oral comments can be presented during the public comment session on October 26, 2008. Written comments on issues being considered at the meeting will be made available to the Advisory Committee, and must be received no later than October 17, 2008 (see ADDRESSES).

ADDRESSES: The meeting will be held at the Crowne Plaza Hotel, 8777 Georgia Avenue, Silver Spring, MD 20910. Written comments should be sent to Terra Lederhouse at NOAA Fisheries, Office of International Affairs, Room 12641, 1315 East-West Highway, Silver Spring, MD 20910. Written comments can also be provided via fax (301-713-2313) or email (Terra.Lederhouse@noaa.gov).

FOR FURTHER INFORMATION CONTACT: Terra Lederhouse, (301) 713-9090.

SUPPLEMENTARY INFORMATION: The Advisory Committee to the U.S. Section to ICCAT will meet in open session on October 26. The Advisory Committee will receive management and research related information on the stock status of highly migratory species, including the management recommendations of ICCAT's Standing Committee on Research and Statistics. There will be an opportunity for oral public comment during the October 26, 2008, open session. Written comments may also be submitted for the October open session by mail, fax or email. Written comments should be received by October 17, 2008 (see ADDRESSES).

During its second fall meeting, the Advisory Committee will also hold two executive sessions that are closed to the public. The first executive session will be held on October 27, 2008, and a second executive session will be held on October 28, 2008. The purpose of these sessions is to discuss sensitive information relating to upcoming international negotiations.

NMFS expects members of the public to conduct themselves appropriately at the open session of the meeting. At the beginning of the public comment session, an explanation of the ground rules will be provided (e.g., alcohol in the meeting room is prohibited, speakers will be called to give their comments in the order in which they registered to speak, each speaker will have an equal amount of time to speak, and speakers should not interrupt one another). The session will be structured so that all attending members of the public are able to comment, if they so choose, regardless of the degree of controversy of the subject(s). Those not respecting the ground rules will be asked to leave the meeting.

Special Accommodations

The meeting location is physically accessible to people with disabilities. Requests for sign language interpretation or other auxiliary aids should be directed to Terra Lederhouse at (301) 713-9090 at least five days prior to the meeting date.

Dated: August 27, 2008.
Christopher Rogers,
Acting Director, Office of International Affairs, National Marine Fisheries Service.

[FR Doc. E8-20279 Filed 8-29-08; 8:45 am]

BILLING CODE 3510-22-S